DEPARTMENT OF HOMELAND SECURITY

Federal Emergency Management Agency

[Docket ID: FEMA-2017-0035 ]

Notice of Utilization of Streamlined Procedures for Environmental Assessments Associated With Hurricanes Harvey, Irma, Maria, and Nate

AGENCY: Federal Emergency Management Agency; Department of Homeland Security.

ACTION: Notice.

SUMMARY: As a result of recent unprecedented hurricanes, disasters have been declared for areas affected by Hurricanes Harvey, Irma, Maria, and Nate. Due to the catastrophic damages caused by these hurricanes, FEMA must have a more efficient and streamlined procedure for achieving compliance under the National Environmental Policy Act (NEPA) during multiple, simultaneous, recovery missions for the provision of disaster assistance under the Robert T. Stafford Disaster Relief and Emergency Assistance Act, including Individual Assistance, Public Assistance, and Hazard Mitigation Assistance. After assessing the scale of current recovery operations, and identifying the critical need for timely rebuilding of the affected communities, FEMA, in consultation with the Department of Homeland Security, determined that exigent circumstances exist. As a result of these exigent circumstances, FEMA may utilize the streamlined procedures outlined in this notice for those activities that require an Environmental Assessment.

ADDRESSES: For access to the docket to read background documents, go to the Federal eRulemaking Portal at http://www.regulations.gov and search for the docket ID. Documents may also be inspected at FEMA, Office of Chief Counsel, Room 8NE, 500 C Street SW., Washington, DC 20472.

FOR FURTHER INFORMATION CONTACT: Ms. Katherine Zeringue, Katherine.zeringue@fema.dhs.gov.

SUPPLEMENTARY INFORMATION: As a result of unprecedented damages from 2017 Hurricane Season, federal disasters were declared for multiple areas affected by Hurricanes Harvey, Irma, Maria and Nate. Due to the catastrophic damages caused by these hurricanes, it is critical that FEMA create a more efficient and streamlined procedure for NEPA compliance for multiple, simultaneous, recovery missions and the provision of disaster assistance under the Robert T. Stafford Disaster Relief and Emergency Assistance Act, 42 U.S.C. 4121 et seq., including Individual Assistance, Public Assistance, and Hazard Mitigation Assistance. After assessing the scale of the recovery operations, and the need for the timely rebuilding of all of the affected communities, FEMA, in consultation with the Department of Homeland Security (DHS), determined that exigent circumstances exist. As a result of these exigent circumstances, FEMA may utilize streamlined procedures for those activities that require an Environmental Assessment (EA) under NEPA. The streamlined NEPA procedures may include any or all of the following:

(1) The public involvement process for EAs associated with Hurricanes Harvey, Irma, Maria, and Nate may be condensed to more efficiently complete NEPA review [DHS Instruction Manual 023-01-001-01, Rev 1 Section V.C (7)]. Public review and comment periods may vary depending upon the urgency of the action. FEMA may provide for a 3-day comment period for the following actions:

• Group Housing Sites

• Interim and/or temporary facilities for:

○ Hospitals and health care facilities;

○ schools and day care centers;

○ utilities and wastewater treatment plants;

○ police and fire stations;

○ government and court facilities;

○ detention centers and jailhouses; and

○ transportation facilities.

FEMA may provide for a 14-day comment period for all other actions associated with Hurricanes Harvey, Irma, Maria and Nate. Public comments to the EAs can be submitted via phone or email. Specific contact information will be provided in each individual EA.

(2) FEMA may favor electronic media rather than other forms of media for notifications to the public because traditional media may no longer be available to affected communities, take longer to prepare, or add additional cost. Electronic notifications may reach a broader audience, since affected communities may be displaced or away from their traditional access points for local information (such as the U.S. Postal Service or local libraries that may be affected by the disaster). FEMA will continue use of the Unified Federal Review for notification to Other Federal Agencies that may have an interest in a relevant project.

(3) Unless other action alternatives are readily available, FEMA may focus EA level analysis and documentation on the “No Action” and “Proposed Action” alternatives (40 CFR 1508.9, Sec. 102; 42 U.S.C. 4332). FEMA's action is often to approve or deny requests for federal disaster assistance, from affected communities. This means that FEMA's “Proposal” or proposed action occurs when FEMA is considering a grant application or application for assistance.

(4) FEMA may discuss resource areas in detail only if it determines that there is a potential impact to the resources, rather than following the procedure outlined in FEMA Instruction 108-1 Section 3.4(C)(4) that requires FEMA to address in detail the Endangered Species Act (ESA), the National Historic Preservation Act (NHPA), Executive Order 11988, Executive Order 11990, and Executive Order 12898 in its EAs regardless of the potential for impact to these resources. These streamlined procedures will supersede the requirement in FEMA's Instruction and allow FEMA to identify, and eliminate from detailed study, the issues that are not significant (40 CFR 1501.7).

The above changes, along with other internal efficiencies that FEMA may employ to comply with NEPA, such as document templates and analysis and reference tools, will allow FEMA to balance concise environmental reviews with open communication and the opportunity for meaningful public input in the decision making process. It also allows the public the opportunity to participate in FEMA's NEPA process and receive timely assistance and grants. FEMA acknowledges that the 2017 Atlantic Hurricane Season is still underway, and it may be necessary to re-issue this notification in the future.

The changes FEMA may employ for the recovery efforts for Hurricanes Harvey, Irma, Maria and Nate do not affect the requirements of any other environmental or historic preservation laws, regulations, or executive orders. This notice addresses FEMA's requirements under DHS Instruction Manual 023-01-001-01 Rev 1 Sections V. C (7) and VII M (1-3) and provides the public with sufficient notice of FEMA's intent to expedite federal assistance by reducing typical, but not required, public input timeframes. The Streamlined Procedures for Environmental Assessments under NEPA is available for reviewing at www.regulations.gov under FEMA-2017-0035. FEMA and DHS will post this notice and will provide any updates to the public on its Web sites at: https://www.fema.gov/fema-national-environmental-policy-act-streamlined-procedures and https://www.dhs.gov/national-environmental-policy-act.

Authority: The authority for the streamlined procedures for Environmental Assessments under the NEPA is derived from DHS Instruction Manual 023-01-001-01 Rev 1 Section V. C (7).

Dated: November 22, 2017.
Brock Long,
Administrator, Federal Emergency Management Agency.

[FR Doc. 2017-25933 Filed 11-30-17; 8:45 am]

BILLING CODE 9111-46-P